DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration will publish periodic summaries of proposed projects. To request more information on the proposed projects or to obtain a copy of the information collection plans, call the SAMHSA Reports Clearance Officer on (301) 443-7978.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Community Mental Health Services Block Grant Application Guidance and Instructions, FY 2002-2004—(OMB No. 0930-0168, Revision)—Sections 1911 through 1920 of the Public Health Service Act (42 U.S.C. 300x through 300x-9) provide for annual allotments to assist States to establish or expand an organized, community-based system of care for adults with serious mental illness and children with serious emotional disturbances. Under the provisions of the law, States may receive allotments only after an application is submitted and approved by the Secretary of the Department of Health and Human Services.

For the Federal fiscal year 2002-2004 Community Mental Health Services Block Grant application cycles, SAMHSA will provide States with revised application guidance and instructions. These changes affect several areas of the application and add a new section to accommodate reporting of uniform data on the public mental health system. Proposed revisions to the previously approved application include: (1) A table for listing mental health planning council membership in order to determine whether the membership and threshold requirements of the law (42 U.S.C. 300x-4) are being met; (2) several minor changes in the format, including moving the report required under 42 U.S.C 300x-52 to the Implementation Report; and, (3) addition of a new Section IV requiring States to report uniform data on their public mental health systems with a focus on community mental health services, along with a State-level reporting system capacities checklist in order to ascertain States' ability to report uniform data. Section IV has been developed through a collaborative partnership and consultation with a data working group consisting of representatives from the National Association of State Mental Health Program Directors, State level data experts and consumer representatives.

In the previous application approved by the Office of Management and Budget, it was estimated that the average annual hourly burden for each State would be 195 hours, taking into consideration the option provided to States for electronic submission of the application. This included 115 hours to complete the Plan (Sections I-III) and 80 hours to complete the Implementation Report. Based on anecdotal information, it is anticipated that for the Plan the burden will remain at 115 hours and for the Implementation Report the burden will remain at 80 hours. The burden for Section IV, which requires States to complete several data tables along with a State level reporting system capacities checklist, is estimated to be 20 hours. The following table summarizes the annual burden for the revised application.

Part of application | Number of respondents | Responses per respondent | Burden per response (Hrs.) | Total burden
Plan (Sections I-III) | 59 | 1 | 115 | 6,785
Data tables & Checklist (Section IV) | 59 | 1 | 20 | 1,180
Implementation Report (Section V) | 59 | 1 | 80 | 4,720
Total | 59 |  | 215 | 12,685

Send comments to Nancy Pearce, SAMHSA Reports Clearance Officer, Room 16-105, Parklawn Building, 5600 Fishers Lane, Rockville, MD 20857. Written comments should be received within 60 days of this notice.

Dated: September 21, 2000.
Richard Kopanda,
Executive Officer, SAMHSA.

[FR Doc. 00-24897 Filed 9-27-00; 8:45 am]

BILLING CODE 4162-20-P